ENVIRONMENTAL PROTECTION AGENCY

40 CFR Part 52

[R04-OAR-2005-GA-0005-200537e; FRL-8021-2]

Approval and Promulgation of Implementation Plans Georgia: Approval of Revisions to the State Implementation Plan; Extension of Comment Period

AGENCY: Environmental Protection Agency (EPA).

ACTION: Proposed rule; reopening and extension of public comment period.

SUMMARY: EPA is extending the comment period for a proposed rule published November 29, 2005 (70 FR 71446). On November 29, 2005, EPA proposed to approve a correction to the State Implementation Plan (SIP) for the State of Georgia regarding the State's general “nuisance” rule. EPA has determined that this rule, Georgia Rule 391-3-1.02(2)(a)1, was erroneously incorporated into the SIP. EPA is proposing to remove this rule from the approved Georgia SIP because the rule is not related to the attainment and maintenance of the national ambient air quality standards (NAAQS). At the request of several commentors, EPA is extending the comment period through January 23, 2006.

DATES: Written comments must be received on or before January 23, 2006.

ADDRESSES: Comments should be submitted to: Sean Lakeman, Regulatory Development Section, Air Planning Branch, Air, Pesticides and Toxics Management Division, U.S. Environmental Protection Agency, Region 4, 61 Forsyth Street, SW., Atlanta, Georgia 30303-8960. Phone: (404) 562-9043. E-mail: lakeman.sean@epa.gov. Additional instructions to comment can be found in the notice of proposed rulemaking published November 29, 2005 (70 FR 71446).

FOR FURTHER INFORMATION CONTACT: Sean Lakeman, Regulatory Development Section, Air Planning Branch, Air, Pesticides and Toxics Management Division, U.S. Environmental Protection Agency, Region 4, 61 Forsyth Street, SW., Atlanta, Georgia 30303-8960. The telephone number is (404) 562-9043. Mr. Lakeman can also be reached via electronic mail at lakeman.sean@epa.gov.

Dated: January 6, 2006.
A. Stanley Meiburg,
Acting Regional Administrator, Region 4.

[FR Doc. E6-355 Filed 1-12-06; 8:45 am]

BILLING CODE 6560-50-P